DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

The Finger Lakes Railway Corporation (Waiver Petition Docket Number FRA-2001-10215)

The Finger Lakes Railway Corporation (FGLK), seeks an extension of a waiver of compliance from certain provisions of Safety Glazing Standards, 49 CFR Part 223 that requires certified glazing for four passenger coaches, Car Numbers: FGLK 7201, FGLK 7202, FGLK 7601, and FGLK7602. In addition, FGLK petitions to add two more coaches in the waiver: FGLK 1642, and FGLK 1643.

The FGLK petition states that the cars are still operating in the same service environment with no changes to speed, or line segments and are following the conditions stipulated in the existing waiver. For the added two coaches, FGLK provided the following information in support of its petition. The cars were built in 1916, by the Harlen and Harrington Company for what used to be Norfolk & Western Railroad. The cars are all of steel construction. They were refurbished in 1989-1990, and used on the Maine Coast Railroad for excursion until 2002, when the cars were moved to New York State for use on the Niagara and Western New York Railroad excursion train.

The cars have been stored on FGLK in Geneva, New York, since October 2004. The current windows are sealed 3/8” thick safety glass in Adlake Company Frames. There is no damage to the windows at this time. In all aspects, these two cars will be utilized in the same manner and in the same locations as the four cars currently operating under Docket Number FRA-2001-10215.

FGLK has requested updated quotations for FRA-compliant replacement window glass. These costs reflect the application of 49 CFR Part 223, glass into all passenger coaches currently operating under Docket Number FRA-2001-10215, and the two additional coaches that are being requested in this petition. FGLK stated that glass replacement continues to be an extremely high cost for an excursion operation and would jeopardize any chance of profitability for such operation for quite some time.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2001-10215) and may be submitted by any of the following methods:

Web site: http://www.regulations.gov. Follow the online instructions for submitting comments.

Fax: 202-493-2251.

Mail: Docket Operations Facility, U.S. Department of Transportation, 1200 New Jersey Avenue, SE., W12-140, Washington, DC 20590.

Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-19478).

Issued in Washington, DC on December 10, 2007.
Grady C. Cothen, Jr.
Deputy Associate Administrator for Safety Standards and Program Development.

[FR Doc. E7-24189 Filed 12-12-07; 8:45 am]

BILLING CODE 4910-06-P